DEPARTMENT OF ENERGY

Office of Energy Efficiency and Renewable Energy

Proposed Agency Information Collection

AGENCY: Office of Energy Efficiency and Renewable Energy, U.S. Department of Energy.

ACTION: Notice and request for comments.

SUMMARY: The Department of Energy (DOE) invites public comment on a proposed emergency collection of information that DOE is developing for submission to the Office of Management and Budget (OMB) pursuant to the Paperwork Reduction Act of 1995. Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

DATES: Comments regarding this proposed information collection must be received on or before February 9, 2012. If you anticipate difficulty in submitting comments within that period, contact the person listed in ADDRESSES as soon as possible.

ADDRESSES: Written comments may be sent to Jamie Vernon or by fax at (202) 586-9260, or by email at Jamie.Vernon@ee.doe.gov.

FOR FURTHER INFORMATION CONTACT: Requests for additional information or copies of the information collection instrument and instructions should be directed to Jamie Vernon, Jamie.Vernon@ee.doe.gov.

SUPPLEMENTARY INFORMATION: This information collection request contains: (1) OMB No.: New; (2) Information Collection Request Title: Customer Electricity Consumption Data Access and Control Questionnaire; (3) Type of Request: New; (4) Purpose: The U.S. Department of Energy (DOE) will generate a “crowd-sourced map” that discloses consumer access to personal electricity consumption data and the ability to share that data with third parties for the purpose of developing energy savings plans. Generation of such a map requires DOE to collect information from electricity providers about data access and sharing services offered to their customers. To meet this obligation, the DOE Office of Energy Efficiency and Renewable Energy (EERE) has developed an online questionnaire device that captures and publishes the necessary information as a series of web-based maps upon completion by electricity providers. DOE is requesting a 6-month approval to collect this information; (5) Annual Estimated Number of Respondents: 3,261; (6) Annual Estimated Number of Total Responses: 3,261; (7) Annual Estimated Number of Burden Hours: 435; (8) Annual Estimated Reporting and Recordkeeping Cost Burden: $0.

Statutory Authority: Section 13(b) of the Federal Energy Administration Act of 1974 (FEA Act), as amended, codified at 15 U.S.C. 772(b) and Section 1301 of the Energy Independence and Security Act of 2007 (EISA), as amended, codified at 42 U.S.C. 17381.

Issued in Washington, DC, on January 9, 2012.
Carla Frisch,
Acting Director of Analysis, Office of Energy Efficiency and Renewable Energy, U.S. Department of Energy.

[FR Doc. 2012-546 Filed 1-12-12; 8:45 am]

BILLING CODE 6450-01-P